ENVIRONMENTAL PROTECTION AGENCY

[FRL-9907-89-OA]

Notification of Public Teleconferences of the Clean Air Scientific Advisory Committee Air Monitoring and Methods Subcommittee

AGENCY: Environmental Protection Agency (EPA).

ACTION: Notice.

SUMMARY: The Environmental Protection Agency (EPA) Science Advisory Board (SAB) Staff Office announces three public teleconferences of the Clean Air Scientific Advisory Committee (CASAC) Air Monitoring and Methods Subcommittee (AMMS) to conduct a review of the scientific and technical aspects of a draft document that supports a recommendation to adopt the Nitric Oxide (NO)-Chemiluminescence method as a second Federal Reference Method (FRM) for measuring Ozone.

DATES: The three CASAC AMMS public teleconferences will be held on Thursday, April 3, 2014; Tuesday, April 8, 2014; and, Thursday, June 12, 2014, with all three occurring from 11:30 a.m. to 4:30 p.m. (Eastern Time).

ADDRESSES: The three CASAC AMMS public teleconferences will take place via telephone only.

FOR FURTHER INFORMATION CONTACT: Any member of the public who wants further information concerning the CASAC AMMS public teleconferences may contact Mr. Edward Hanlon, Designated Federal Officer (DFO), EPA Science Advisory Board (1400R), U.S. Environmental Protection Agency, 1200 Pennsylvania Avenue NW., Washington, DC 20460; via telephone/voicemail at (202) 564-2134, fax at (202) 565-2098; or email at hanlon.edward@epa.gov. General information concerning the CASAC can be found on the EPA Web site at http://www.epa.gov/casac.

SUPPLEMENTARY INFORMATION: The CASAC was established pursuant to the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. The CASAC AMMS and the CASAC will comply with the provisions of FACA and all appropriate SAB Staff Office procedural policies. The CASAC AMMS will provide advice to the Administrator through the chartered CASAC. Pursuant to FACA and EPA policy, notice is hereby given that the CASAC AMMS will hold three public teleconferences to discuss and deliberate on the topic below.

Background

The EPA is developing scientific and technical documents associated with the Ozone (O3) National Ambient Air Quality Standard (NAAQS). The O3 NAAQS FRM serves as the standard protocol for measuring ambient O3 concentration values. The O3 NAAQS FRM is used to assess whether a given geographic region is in full regulatory compliance with the appropriate O3 NAAQS standard. The O3 NAAQS FRM is also used to help assess the operational and laboratory-based performance of emerging monitoring technologies. The current O3 NAAQS FRM (Ethylene-Chemiluminescence method) is no longer being manufactured, and the EPA's Office of Research and Development (ORD) is proposing addition of the Nitric Oxide (NO)-Chemiluminescence method as a second FRM for O3. During the April 3, 2014 teleconference call, the CASAC AMMS will review the scientific and technical aspects of a draft document that supports ORD's recommendation to adopt the NO-Chemiluminescence method as a second FRM for measuring O3. The April 8, 2014 AAMS teleconference will only be held if the subcommittee does not complete its deliberations on the topic being considered during the April 3, 2014 public teleconference.

Technical Contacts: Any technical questions concerning EPA's proposal to add the NO-Chemiluminescence method as a second FRM for O3 should be directed to Mr. Eric S. Hall, National Exposure Research Laboratory, Office of Research and Development, U.S. EPA, 109 T.W. Alexander Drive, MD E205-03, Research Triangle Park, NC 27711-0001, telephone (919) 541-3147 or via email at hall.erics@epa.gov.

Availability of Meeting Materials: Prior to the meeting, the review document, agenda and other materials will be accessible through the calendar link on the blue navigation bar at http://www.epa.gov/casac/.

Procedures for Providing Public Input: Public comment for consideration by EPA's federal advisory committees and panels has a different purpose from public comment provided to EPA program offices. The intended use of comments submitted to a federal advisory committee is different from the purpose of comments submitted to the EPA's program offices. Federal advisory committees and panels, including scientific advisory committees, provide independent advice to EPA. Members of the public may submit relevant comments pertaining to the group conducting the review to the SAB Staff Office or provide relevant comments pertaining to the topics being considered including the charge to the CASAC Subcommittee to consider as it develops advice for EPA. Input from the public to the CASAC Subcommittee will have the most impact if it provides specific scientific or technical information or analysis for the CASAC Subcommittee to consider or if it relates to the clarity or accuracy of the technical information. Members of the public wishing to provide comment should contact the DFO directly.

Oral Statements: In general, individuals or groups requesting an oral presentation will be limited to three minutes for the public teleconferences. Each person making an oral statement should consider providing written comments as well as their oral statement so that the points presented orally can be expanded upon in writing. Interested parties should contact Mr. Edward Hanlon, DFO, in writing (preferably via email) at the contact information noted above by April 2, 2014, to be placed on the list of public speakers for the April 3, 2014 public teleconference, and by June 5, 2014, to be placed on the list of public speakers for the June 12, 2014 public teleconference.

Written Statements: Written statements should be supplied to Mr. Hanlon, DFO, via email at the contact information noted above by April 2, 2014 for the April 3, 2014 public teleconference, and by June 5, 2014 for the June 12, 2014 public teleconference so that the information may be made available to the AMMS members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Mr. Edward Hanlon at (202) 564-2134 or hanlon.edward@epa.gov. To request accommodation of a disability, please contact Mr. Hanlon preferably at least ten days prior to the public meeting and/or teleconference to give EPA as much time as possible to process your request.

Dated: March 5, 2014.
Thomas H. Brennan,
Deputy Director, EPA Science Advisory Board Staff Office.

[FR Doc. 2014-05524 Filed 3-12-14; 8:45 am]

BILLING CODE 6560-50-P